DEPARTMENT OF DEFENSE

Office of the Secretary

[Docket ID DOD-2010-OS-0053]

Privacy Act of 1974; Systems of Records

AGENCY: Defense Finance and Accounting Service, DoD.

ACTION: Notice to alter a system of records.

SUMMARY: The Defense Finance and Accounting Service (DFAS) is proposing to alter a system of records notice in its inventory of record systems subject to the Privacy Act of 1974, (5 U.S.C. 552a), as amended.

DATES: This action will be effective without further notice on May 24, 2010 unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Thomas Fasham at (215) 522-5225.

SUPPLEMENTARY INFORMATION: The Defense Finance and Accounting Service notices for systems of records subject to the Privacy Act of 1974 (5 U.S.C. 552a), as amended, have been published in the Federal Register and are available from the FOIA/PA Program Manager, Corporate Communications and Legislative Liaison, Defense Finance and Accounting Service, DFAS-HKC/IN, 8899 E. 56th Avenue, Indianapolis, IN 46249-0150.

The proposed system report, as required by 5 U.S.C. 552a(r) of the Privacy Act of 1974, as amended, was submitted on April 12, 2010, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 2996; 61 FR 6427).

Dated: April 19, 2010.
Mitchell S. Bryman,
Alternate OSD Federal Register Liaison Officer, Department of Defense.

T7333

SYSTEM NAME:

Travel Payment System (June 28, 2007; 72 FR 35436).

CHANGES:

* * * * *

SYSTEM NAME:

Delete entry and replace with “Integrated Automated Travel System (IATS).”

SYSTEM LOCATION:

Delete entry and replace with “Defense Finance and Accounting Service—Indianapolis, Chief Information Office (CIO) Systems Management, Military/Civilian Pay Systems Division, Payroll Support Systems Branch, Travel Systems Office, Attn: DFAS-IN/HTSBC, 8899 E. 56th Street, Indianapolis, IN 46249-0160.

To obtain a list of all of the user site locations please contact the above office. Users consist of DoD Components, such as Defense Finance and Accounting Service; Departments of the Army; Department of the Navy; Department of the Air Force; United States Marine Corps; and Defense Logistics Agency.”

CATEGORIES OF INDIVIDUALS COVERED BY THE SYSTEM:

Delete entry and replace with “DoD civilian personnel; Active Duty; Reserve; National Guard; former military members; retired military members; dependents of military personnel; and foreign nationals residing in the United States who are in receipt of official government travel orders.”

CATEGORIES OF RECORDS IN THE SYSTEM:

Delete entry and replace with “Individual's name, Social Security Number (SSN), bank routing number, bank account number, travel vouchers and subvouchers, travel allowance payment lists, travel voucher or subvoucher continuation sheets, vouchers and claims for dependent travel, dislocation or trailer allowances, certificate of non-availability of government quarters and mess, multiple travel payments list, travel payment card, requests for fiscal information concerning transportation requests, bills of lading, meal tickets, public vouchers for fees and claim for reimbursement for expenditures on official business, claim for fees and mileage of witness, certifications for travel under classified orders, travel card envelopes, and statements of adverse effect utilization of government facilities.”

AUTHORITY FOR MAINTENANCE OF THE SYSTEM:

Delete entry and replace with “5 U.S.C. 301, Departmental Regulations; 37 U.S.C. 404, Travel and transportation allowances: General; DoD Directive 5154.29, DoD Pay and Allowances Policy and Procedures; Department of Defense Financial Management Regulation (DoDFMR) 7000.14-R, Volume 9; and E.O. 9397 (SSN), as amended.”

PURPOSE(S):

Delete entry and replace with “To provide an automated means for computing reimbursements for individuals for expenses incurred incident to travel for official Government business purposes and to account for such payments.”

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, these records contained therein may specifically be disclosed outside the DoD as a routine use pursuant to 5 U.S.C. 552a(b)(3) as follows:

To the Internal Revenue Service to provide information concerning the payment of travel allowances which are subject to Federal income tax.

To the Federal Reserve Bank and other banking facilities to make travel payments or for resolving problems associated with these payments.

DISCLOSURE TO CONSUMER REPORTING AGENCIES:

Delete entry and replace with “Disclosures pursuant to 5 U.S.C. 552a(b)(12) may be made from this system to `consumer reporting agencies' as defined in the Fair Credit Reporting Act, 15 U.S.C. 1681a(f) or the Federal Claims Collection Act of 1966, 31 U.S.C. 3701(a)(3). The purpose of the disclosure is to aid in the collection of outstanding debts owed to the Federal Government; typically, to provide an incentive for debtors to repay delinquent Federal Government debts by making these debts part of their credit records.

The disclosure is limited to information necessary to establish the identity of the individual, including name, address, and taxpayer identification number (Social Security Number (SSN)); the amount, status, and history of the claim; and the agency or program under which the claim arose for the sole purpose of allowing the consumer reporting agency to prepare a commercial credit report.

The DoD `Blanket Routine Uses' set forth at the beginning of the DFAS compilation of systems of records notices apply to this system of records.”

* * * * *

RETENTION AND DISPOSAL:

Delete entry and replace with “Records may be temporary in nature and destroyed when superseded, obsolete, no longer needed, or cut off at the end of the fiscal year and destroyed 6 years and 3 months after cutoff. Records are destroyed by degaussing, burning, or shredding.”

SYSTEMS MANAGER(S) AND ADDRESS:

Delete entry and replace with “Systems Manager, Integrated Automated Travel System (IATS), Defense Finance and Accounting Service Indianapolis, Chief Information Office (CIO) Systems Management, Military/Civilian Pay Systems Division, Payroll Support Systems Branch, Travel Systems Office, ATTN: DFAS-IN/HTSBCB, 8899 E 56th Street, Indianapolis, IN 46249-0160.”

NOTIFICATION PROCEDURES:

Delete entry and replace with “Individuals seeking to determine whether information about themselves is contained in this system of records should address written inquiries to the Defense Finance and Accounting Service, Freedom of Information/Privacy Act Program Manager, Corporate Communications and Legislative Liaison, 8899 E. 56th Street, Indianapolis, IN 46249-0150.

Written request should include full name, Social Security Number (SSN), current address, and telephone number.”

RECORD ACCESS PROCEDURES:

Delete entry and replace with “Individuals seeking access to information about themselves in this system of records should address written inquiries to the Defense Finance and Accounting Service, Freedom of Information/Privacy Act Program Manager, Corporate Communications and Legislative Liaison, 8899 E. 56th Street, Indianapolis, IN 46429-0150.

Written request should include full name, Social Security Number (SSN), current address, and telephone number.”

CONTESTING RECORD PROCEDURES:

Delete entry and replace with “The DFAS rules for accessing records, for contesting contents and appealing initial agency determinations are published in DFAS Regulation 5400.11-R; 32 CFR part 324; or may be obtained from the system manager.”

RECORD SOURCE CATEGORIES:

Delete entry and replace with “The individual; DoD Components that include the Departments of the Army; Navy; United States Air Force; Marine Corps; Air Force Academy; and Defense Logistics Agency.”

* * * * *

T7333

SYSTEM NAME:

Integrated Automated Travel System (IATS).

SYSTEM LOCATIONS:

Defense Finance and Accounting Service—Indianapolis, Chief Information Office (CIO) Systems Management, Military/Civilian Pay Systems Division, Payroll Support Systems Branch, Travel Systems Office, Attn: DFAS-IN/HTSBC, 8899 E. 56th Street, Indianapolis, IN 46249-0160.

To obtain a list of all of the user site locations please contact the above office. Users consist of DoD Components, such as Defense Finance and Accounting Service; Department of the Army; Department of the Navy; Department of the Air Force; United States Marine Corps; and Defense Logistics Agency.

CATEGORIES OF INDIVIDUALS COVERED BY THE SYSTEM:

DoD civilian personnel; active duty; Reserve; National Guard; former military members; retired military members; dependents of military personnel; and foreign nationals residing in the United States who are in receipt of official government travel orders.

CATEGORIES OF RECORDS IN THE SYSTEM:

Individual's name, Social Security Number (SSN), bank routing number, bank account number, travel vouchers and subvouchers, travel allowance payment lists, travel voucher or subvoucher continuation sheets, vouchers and claims for dependent travel, dislocation or trailer allowances, certificate of non-availability of government quarters and mess, multiple travel payments list, travel payment card, requests for fiscal information concerning transportation requests, bills of lading, meal tickets, public vouchers for fees and claim for reimbursement for expenditures on official business, claim for fees and mileage of witness, certifications for travel under classified orders, travel card envelopes, and statements of adverse effect utilization of government facilities.

AUTHORITY FOR MAINTENANCE OF THE SYSTEM:

5 U.S.C. 301; Departmental Regulations; 37 U.S.C. 404, Travel and transportation allowances; general; DoD Directive 5154.29, DoD Pay and Allowances Policy and Procedures; Department of Defense Financial Management Regulation (DoDFMR) 7000.14.R, Volume 9; and E.O. 9397(SSN), as amended.

PURPOSE(S):

To provide an automated means for computing reimbursements for individuals for expenses incurred incident to travel for official Government business purposes and to account for such payments.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

To the Internal Revenue Service to provide information concerning the payment of travel allowances which are subject to Federal income tax.

To the Federal Reserve Bank and other banking facilities to make travel payments or for resolving problems associated with these payments.

DISCLOSURE TO CONSUMER REPORTING AGENCIES:

Disclosures pursuant to 5 U.S.C. 552a(b)(12) may be made from this system to `consumer reporting agencies' as defined in the Fair Credit Reporting Act, 15 U.S.C. 1681a(f) or the Federal Claims Collection Act of 1966, 31 U.S.C. 3701(a)(3). The purpose of the disclosure is to aid in the collection of outstanding debts owed to the Federal Government; typically, to provide an incentive for debtors to repay delinquent Federal Government debts by making these debts part of their credit records.

The disclosure is limited to information necessary to establish the identity of the individual, including name, address, and taxpayer identification number (Social Security Number (SSN)); the amount, status, and history of the claim; and the agency or program under which the claim arose for the sole purpose of allowing the consumer reporting agency to prepare a commercial credit report.

The DoD `Blanket Routine Uses' published at the beginning of the DFAS compilation of systems of records notices apply to this system.

POLICIES AND PRACTICES FOR STORING, RETRIEVING, ACCESSING, RETAINING, AND DISPOSING OF RECORDS IN THE SYSTEM:

STORAGE:

Paper records in file folders and electronic storage media.

RETRIEVABILITY:

Retrieved by individual's name and/or Social Security Number (SSN).

SAFEGUARDS:

Records are accessed by individuals responsible for servicing the record and authorized to use the record system in the performance of their official duties. All individuals are properly screened and cleared for need-to-know. Additionally, at most user sites, records are in office buildings protected by guards and controlled by screening of personnel and registering of visitors.

RETENTION AND DISPOSAL:

Records may be temporary in nature and destroyed when superseded, obsolete, no longer needed, or cut off at the end of the fiscal year and destroyed 6 years and 3 months after cutoff. Records are destroyed by degaussing, burning, or shredding.

SYSTEM MANAGER(S) AND ADDRESS:

Systems Manager Integrated Automated Travel System (IATS), Defense Finance and Accounting Service Indianapolis, Chief Information Office (CIO) Systems Management, Military/Civilian Pay Systems Division, Payroll Support Systems Branch, Travel Systems Office, ATTN: DFAS-IN/HTSBCB, 8899 E. 56th Street, Indianapolis, IN 46249-0160.

NOTIFICATION PROCEDURE:

Individuals seeking to determine whether information about themselves is contained in this system of records should address written inquiries Defense Finance and Accounting Service, Freedom of Information/Privacy Act Program Manager, Corporate Communications and Legislative Liaison, 8899 E. 56th Street, Indianapolis, IN 46249-0150.

Written request should include full name, Social Security Number (SSN), current address and telephone number.

RECORD ACCESS PROCEDURES:

Individuals seeking access to information about themselves in this system of records should address written inquiries to the Defense Finance and Accounting Service, Freedom of Information/Privacy Act Program Manager, Corporate Communications and Legislative Liaison, 8899 E. 56th Street, Indianapolis, IN 46429-0150.

Written request should include full name, Social Security Number (SSN), current address and telephone number.

CONTESTING RECORD PROCEDURES:

The DFAS rules for accessing records, for contesting contents and appealing initial agency determinations are published in DFAS Regulation 5400.11-R; 32 CFR part 324; or may be obtained from the system manager.

RECORD SOURCE CATEGORIES:

The individual; DoD Components that include the Departments of the Army; Navy; United States Air Force; Marine Corps; Air Force Academy; and Defense Logistics Agency.

EXEMPTIONS CLAIMED FOR THE SYSTEM:

None.

[FR Doc. 2010-9386 Filed 4-22-10; 8:45 am]

BILLING CODE 5001-06-P